DEPARTMENT OF COMMERCE

National Oceanic and Atmospheric Administration

Proposed Information Collection; Comment Request; Pilot Project Assessing Economic Benefits of Marine Debris Removal

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 10, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Jason Landrum, (301) 713-2989 or Jason.Landrum@noaa.gov.

SUPPLEMENTARY INFORMATION:

I. Abstract

This request is for a new information collection.

Under the authority of the Marine Debris Research, Prevention, and Reduction Act (Marine Debris Act of 2012, 33 U.S.C. 1951 et seq., as amended by Title VI of Public Law 112-213), NOAA's Marine Debris Division (MDD) is conducting a pilot project designed to assess the economic benefits to beach visitors of marine debris removal. The project will use a revealed preference valuation approach (a random utility travel cost model) to assess benefits associated with marine debris removal at selected beaches in Southern California. The MDD intends to conduct a mail survey of Orange County, California households in order to gather beach trip data required to estimate the model. The pilot project will provide information for use in assessing and prioritizing future efforts to reduce or remove marine debris. The project will also lay the groundwork for additional research related to economic benefits, providing information about the types of marine debris that beach visitors are concerned about and about potential economic modeling challenges.

II. Method of Collection

Respondents will provide information on paper forms, which will be transmitted by mail.

III. Data

OMB Control Number: None.

Form Number: None.

Type of Review: Regular submission (new information collection).

Affected Public: Individuals or households.

Estimated Number of Respondents: Primary survey, 1,200 respondents; non-respondent follow-up survey, 120 respondents.

Estimated Time per Response: Primary survey, 20 minutes; non-respondent follow-up survey, 5 minutes.

Estimated Total Annual Burden Hours: 410 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 6, 2013.
Gwellnar Banks,
Management Analyst, Office of the Chief Information Officer.

[FR Doc. 2013-05551 Filed 3-8-13; 8:45 am]

BILLING CODE 3510-JE-P